FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than August 7, 2023.

A. Federal Reserve Bank of Kansas City (Jeffrey Imgarten, Assistant Vice President) One Memorial Drive, Kansas City, Missouri 64198-0001. Comments can also be sent electronically to KCApplicationComments@kc.frb.org:

1. Daniel Plate, Houston, Texas; to join the Plate/Juelfs/Forbes Control Group, a group acting in concert, by acquiring voting shares of Banner County Ban Corporation, and thereby indirectly acquiring voting shares of Banner Capital Bank, both of Harrisburg, Nebraska.

2. Dallen Juelfs, Lisco, Nebraska, and Lorenda Forbes, Beaver City, Nebraska; to become members of the Plate/Juelfs/Forbes Control Group, a group acting in concert, by acquiring voting shares of Banner County Ban Corporation, and thereby indirectly acquiring voting shares of Banner Capital Bank, both of Harrisburg, Nebraska. Additionally, Dallen Juelfs and Lorenda Forbes, to become trustees of The Banner County Ban Corp Employee Stock Ownership Plan and Trust, Harrisburg, Nebraska, and thereby indirectly acquire voting shares of Banner County Ban Corporation and its subsidiary, Banner Capital Bank.

Board of Governors of the Federal Reserve System.
Michele Taylor Fennell,
Deputy Associate Secretary of the Board.

[FR Doc. 2023-15548 Filed 7-21-23; 8:45 am]

BILLING CODE P